DEPARTMENT OF TRANSPORTATION

Maritime Administration

[Docket No. DOT-MARAD 2017-0169]

Request for Comments on the Renewal of a Previously Approved Information Collection: Cruise Vessel Security and Safety Training Provider Certification

AGENCY: Maritime Administration, Department of Transportation.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on July 6, 2017 (Federal Register 31388, Vol. 82, No. 128).

DATES: Comments must be submitted on or before December 1, 2017.

ADDRESSES: Send comments regarding the burden estimate, including suggestions for reducing the burden, to the Office of Management and Budget, Attention: Desk Officer for the Office of the Secretary of Transportation, 725 17th Street NW., Washington, DC 20503.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Quinton Ellis, Telephone: 202-366-5906; Office of Security, Maritime Administration, U.S. Department of Transportation, 1200 New Jersey Avenue SE., W25-305, Washington, DC 20590.

SUPPLEMENTARY INFORMATION:

Title: Cruise Vessel Security and Safety Training Provider Certification.

OMB Control Number: 2133-0547.

Type of Request: Renewal of a Previously Approved Information Collection.

Abstract: Section 3508 of the Cruise Vessel Security and Safety Act of 2010, Public Law 111-207 (July 27, 2010, as codified at 46 U.S.C. 3507-3508 (CVSSA)) provides the Maritime Administrator with the discretionary authority to certify cruise vessel training providers that comply with training standards developed by the USCG, FBI and the Maritime Administration (MARAD). The certification process necessarily requires applicants to provide supporting information to evidence their compliance with the CVSSA training standards.

Respondents: Cruise line companies and maritime industry training providers.

Affected Public: Passengers and crew onboard cruise lines.

Estimated Number of Respondents: 20.

Estimated Number of Responses: 20.

Estimated Hours per Response: 40.

Annual Estimated Total Annual Burden Hours: 800.

Frequency of Response: Annually.

(Authority: The Paperwork Reduction Act of 1995; 44 U.S.C. Chapter 35, as amended; and 49 CFR 1.93.)

* * * * *

By Order of the Maritime Administrator.
Dated: October 27, 2017.
T. Mitchell Hudson, Jr.,
Secretary, Maritime Administration.

[FR Doc. 2017-23750 Filed 10-31-17; 8:45 am]

BILLING CODE 4910-81-P